DEPARTMENT OF HEALTH AND HUMAN SERVICES

National Institutes of Health

National Institute of Allergy and Infectious Diseases; Notice of Closed Meetings

Pursuant to section 10(d) of the Federal Advisory Committee Act, as amended (5 U.S.C. appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Allergy and Infectious Diseases Special Emphasis Panel, Comprehensive International Program of Research on AIDS (CIPRA)—Peru.

Date: May 27, 2003.

Time: 2 p.m. to 5:30 p.m.

Agenda: To review and evaluate grant proposals.

Place: National Institutes of Health, Rockledge 6700, 6700B Rockledge Drive, Bethesda, MD 20817, (Telephone Conference Call).

Contact Person: Eleazar Cohen, PhD, Scientific Review Administrator, Scientific Review Program, National Institute of Allergy and Infectious Diseases, DEA/NIH/DHHS, 6700 B Rockledge Drive, MSC 7616, Room 3112, Bethesda, MD 20892-7616, 301-435-3564, ec17w@nih.gov.

Name of Committee: National Institute of Allergy and Infectious Diseases Special Emphasis Panel, In Vitro and Animal Models for Emerging Diseases and BioDefense, Parts E&F.

Date: May 30, 2003.

Time: 12:30 p.m. to 3:30 p.m.

Agenda: To review and evaluate contract proposals.

Place: National Institutes of Health, Rockledge 6700, 6700B Rockledge Drive, 4200, Bethesda, MD 20817, (Telephone Conference Call).

Contact Person: Anthony Macaluso, PhD, Scientific Review Administrator, NIAID/DEA, Scientific Review Program, Room 2212, 6700B Rockledge Drive, MSC-7616, Bethesda, MD 20892-7616, 301-496-7465, amacaluso@niaid.nih.gov.

Name of Committee: National Institute of Allergy and Infectious Diseases Special Emphasis Panel, In Vitro and Animal Models for Emerging Diseases and Biodefense, Parts A&B.

Date: June 2-3, 2003.

Time: 8:30 a.m. to 6 p.m.

Agenda: To review and evaluate contract proposals.

Place: Holiday Inn Chevy Chase, 5520 Wisconsin Avenue, Somerset Room, Chevy Chase, MD 20815.

Contact Person: Anthony Macaluso, PhD, Scientific Review Administrator, NIAID/DEA, Scientific Review Program, Room 2212, 6700B Rockledge Drive, MSC-7616, Bethesda, MD 20892-7616, 301-496-7465, amacaluso@niaid.nih.gov.

Name of Committee: National Institute of Allergy and Infectious Diseases Special Emphasis Panel, In Vitro and Animal Models for Emerging Diseases and Biodefense, Part C.

Date: June 6, 2003.

Time: 8:30 a.m. to 6 p.m.

Agenda: To review and evaluate contract proposals.

Place: Holiday Inn Chevy Chase, 5520 Wisconsin Avenue, Chevy Chase, MD 20815.

Contact Person: Anthony Macaluso, PhD, Scientific Review Administrator, NIAID/DEA, Scientific Review Program, Room 2212, 6700B Rockledge Drive, MSC-7616, Bethesda, MD 20892-7616, 301-496-7465, amacaluso@niaid.nih.gov.

Name of Committee: National Institute of Allergy and Infectious Diseases Special Emphasis Panel, In Vitro and Animal Models for Emerging Diseases and BioDefense, Part D.

Date: June 9, 2003.

Time: 12:30 p.m. to 3:30 p.m.

Agenda: To review and evaluate contract proposals.

Place: National Institutes of Health, Rockledge 6700, 6700B Rockledge Drive, 1205, Bethesda, MD 20817, (Telephone Conference Call).

Contact Person: Anthony Macaluso, PhD, Scientific Review Administrator, NIAID/DEA, Scientific Review Program, Room 2212, 6700B Rockledge Drive, MSC-7616, Bethesda, MD 20892-7616, 301-496-7465, amacaluso@niaid.nih.gov.

(Catalogue of Federal Domestic Assistance Program Nos. 93.855, Allergy, Immunology, and Transplantation Research; 93.856, Microbiology and Infectious Diseases Research, National Institutes of Health, HHS)
Dated: April 30, 2003.
LaVerne Y. Stringfield,
Director, Office of Federal Advisory Committee Policy.

[FR Doc. 03-11342 Filed 5-6-03; 8:45 am]

BILLING CODE 4140-01-M